DEPARTMENT OF ENERGY

Federal Energy Regulatory Commission

Combined Notice of Filings #1

Take notice that the Commission received the following electric corporate filings:

Docket Numbers: EC24-49-000.

Applicants: RiverCrest Power-SOUTH, LLC, Six One Commodities LLC.

Description: Application for Authorization Under Section 203 of the Federal Power Act of RiverCrest Power-South, LLC.

Filed Date: 2/8/24.

Accession Number: 20240208-5174.

Comment Date: 5 p.m. ET 2/29/24.

Take notice that the Commission received the following exempt wholesale generator filings:

Docket Numbers: EG24-106-000.

Applicants: 68SF 8me LLC.

Description: 68SF 8me LLC submits Notice of Self-Certification of Exempt Wholesale Generator Status.

Filed Date: 2/8/24.

Accession Number: 20240208-5162.

Comment Date: 5 p.m. ET 2/29/24.

Docket Numbers: EG24-107-000.

Applicants: Tyson Nick Solar Project, LLC.

Description: Tyson Nick Solar Project, LLC submits Notice of Self-Certification of Exempt Wholesale Generator Status.

Filed Date: 2/9/24.

Accession Number: 20240209-5102.

Comment Date: 5 p.m. ET 3/1/24.

Take notice that the Commission received the following electric rate filings:

Docket Numbers: ER10-1874-013; ER19-9-007.

Applicants: Mankato Energy Center II, LLC, Mankato Energy Center, LLC.

Description: Supplement to June 29, 2021, Triennial Market Power Analysis for Central Region of Mankato Energy Center, LLC, et al.

Filed Date: 11/20/23.

Accession Number: 20231120-5228.

Comment Date: 5 p.m. ET 3/1/24.

Docket Numbers: ER20-59-004; ER20-422-003; ER20-58-003; ER20-57-003; ER16-2520-005; ER10-1874-015; ER19-9-009; ER18-97-003; ER15-1952-013; ER19-8-005; ER17-318-005; ER20-339-003.

Applicants: Twiggs County Solar, LLC, Three Peaks Power, LLC, Sweetwater Solar, LLC, Pavant Solar LLC, MS Solar 3, LLC, Mankato Energy Center II, LLC, Mankato Energy Center, LLC, Grand View PV Solar Two LLC, GA Solar 3, LLC, FL Solar 4, LLC, FL Solar 1, LLC, AZ Solar 1, LLC.

Description: Supplement to May 1, 2023, Notice of Non-Material Change in Status of AZ Solar 1, LLC, et. al.

Filed Date: 11/20/23.

Accession Number: 20231120-5230.

Comment Date: 5 p.m. ET 3/1/24.

Docket Numbers: ER24-1217-000.

Applicants: RiverCrest Power-SOUTH, LLC.

Description: Tariff Amendment: Notice of Cancellation of Market-Based Rates Tariff and Request for Waiver to be effective 2/9/2024.

Filed Date: 2/8/24.

Accession Number: 20240208-5119.

Comment Date: 5 p.m. ET 2/29/24.

Docket Numbers: ER24-1218-000.

Applicants: Public Service Company of New Mexico.

Description: Notice of Cancellation of conforming Large Generator Interconnection Agreements of Public Service Company of New Mexico.

Filed Date: 2/8/24.

Accession Number: 20240208-5135.

Comment Date: 5 p.m. ET 2/29/24.

Docket Numbers: ER24-1219-000.

Applicants: PJM Interconnection, L.L.C.

Description: § 205(d) Rate Filing: Original NSA, Service Agreement No. 7190; Queue No. AE1-245 to be effective 4/9/2024.

Filed Date: 2/8/24.

Accession Number: 20240208-5145.

Comment Date: 5 p.m. ET 2/29/24.

Docket Numbers: ER24-1220-000.

Applicants: 68SF 8me LLC.

Description: Baseline eTariff Filing: 68SF 8me LLC MBR Tariff to be effective 12/31/9998.

Filed Date: 2/9/24.

Accession Number: 20240209-5075.

Comment Date: 5 p.m. ET 3/1/24.

Docket Numbers: ER24-1221-000.

Applicants: Southwest Power Pool, Inc.

Description: Compliance filing: Submission of Revisions to Revise Att AA Sec 4 Issued in Docket EL23-40. to be effective 4/10/2024.

Filed Date: 2/9/24.

Accession Number: 20240209-5077.

Comment Date: 5 p.m. ET 3/1/24.

Docket Numbers: ER24-1222-000.

Applicants: PacifiCorp.

Description: § 205(d) Rate Filing: Deseret TSOA Rev 10 to be effective 4/10/2024.

Filed Date: 2/9/24.

Accession Number: 20240209-5096.

Comment Date: 5 p.m. ET 3/1/24.

Docket Numbers: ER24-1223-000.

Applicants: Orange and Rockland Utilities, Inc., New York Independent System Operator, Inc.

Description: § 205(d) Rate Filing: Orange and Rockland Utilities, Inc. submits tariff filing per 35.13(a)(2)(iii: NYISO-O&R Joint 205: SGIA Little Pond Solar SA2833 (CEII) to be effective 1/31/2024.

Filed Date: 2/9/24.

Accession Number: 20240209-5119.

Comment Date: 5 p.m. ET 3/1/24.

Docket Numbers: ER24-1224-000.

Applicants: PJM Interconnection, L.L.C.

Description: § 205(d) Rate Filing: Amendment to ISA, Service Agreement No. 6421; AE1-155 to be effective 4/10/2024.

Filed Date: 2/9/24.

Accession Number: 20240209-5125.

Comment Date: 5 p.m. ET 3/1/24.

Docket Numbers: ER24-1225-000.

Applicants: California Independent System Operator Corporation.

Description: § 205(d) Rate Filing: 2024-02-09 Capacity Procurement Mechanism Soft Offer Cap to be effective 12/31/9998.

Filed Date: 2/9/24.

Accession Number: 20240209-5150.

Comment Date: 5 p.m. ET 3/1/24.

Docket Numbers: ER24-1226-000.

Applicants: PJM Interconnection, L.L.C.

Description: Tariff Amendment: Notice of Cancellation of WMPA, SA No. 6324; Queue No. AG2-389 re: Withdrawal to be effective 4/10/2024.

Filed Date: 2/9/24.

Accession Number: 20240209-5171.

Comment Date: 5 p.m. ET 3/1/24.

Docket Numbers: ER24-1227-000.

Applicants: Duke Energy Florida, LLC.

Description: § 205(d) Rate Filing: Non-Conforming Large Generator Interconnection Agreement with SEPA to be effective 4/21/2024.

Filed Date: 2/9/24.

Accession Number: 20240209-5173.

Comment Date: 5 p.m. ET 3/1/24.

Docket Numbers: ER24-1228-000.

Applicants: PJM Interconnection, L.L.C.

Description: Tariff Amendment: Notice of Cancellation of WMPA, SA No. 5753; Queue No. AF2-427 re: withdrawal to be effective 4/10/2024.

Filed Date: 2/9/24.

Accession Number: 20240209-5176.

Comment Date: 5 p.m. ET 3/1/24.

Docket Numbers: ER24-1229-000.

Applicants: ISO New England Inc.

Description: ISO New England Inc. Capital Budget Quarterly Filing for the Fourth Quarter of 2023.

Filed Date: 2/9/24.

Accession Number: 20240209-5185.

Comment Date: 5 p.m. ET 3/1/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 9, 2024.
Debbie-Anne A. Reese,
Acting Secretary.

[FR Doc. 2024-03172 Filed 2-14-24; 8:45 am]

BILLING CODE 6717-01-P